DEPARTMENT OF THE INTERIOR

Fish and Wildlife Service

[Docket No. FWS-HQ-ES-2019-0021; FF09E42000 178 FXES11130900000]

Endangered and Threatened Species; Issuance of Enhancement of Survival and Incidental Take Permits for Safe Harbor Agreements, Candidate Conservation Agreements, and Habitat Conservation Plans, 2018; Issuance of Recovery Permits, July 1, 2017, Through December 31, 2018

AGENCY: Fish and Wildlife Service, Interior.

ACTION: Notice.

SUMMARY: We, the U.S. Fish and Wildlife Service, in accordance with the Endangered Species Act (ESA), provide a list to the public of permits issued under the ESA. With some exceptions, the ESA prohibits take of listed species unless a Federal permit is issued that authorizes or exempts the taking under the ESA. We provide this list to the public as a summary of our permit issuances for candidate conservation agreements with assurances, safe harbor agreements, and habitat conservation plans for calendar year 2018, and for recovery permits issued between July 1, 2017, and December 31, 2018.

FOR FURTHER INFORMATION CONTACT: For general information about the ESA permit process, contact Karen Anderson, via phone at 703-358-2301,viaemailatkaren_anderson@fws.gov, or via the Federal Relay Service at 800-877-8339. For information on specific permits, see the contact information below in Permits Issued.

SUPPLEMENTARY INFORMATION: We, the U.S. Fish and Wildlife Service, in accordance with section 10(d) of the Endangered Species Act of 1973 (ESA; 16 U.S.C. 1531 et seq.), as amended, provide a list to the public of the permits issued under section 10(a)(1)(A) and 10(a)(1)(B) of the ESA. With some exceptions, the ESA prohibits take of listed species unless a Federal permit is issued that authorizes the taking or the take is exempted through section 7 of the ESA. Under section 10(a)(1)(A) of the ESA, we issue enhancement of survival permits in conjunction with candidate conservation agreements with assurances (CCAAs) and safe harbor agreements (SHAs). Section 10(a)(1)(A) also authorizes recovery permits. Section 10(a)(1)(B) permits authorize take of listed species incidental to otherwise lawful activities associated with habitat conservation plans (HCPs). We provide this list to the public as a summary of our permit issuances for CCAAs, SHAs, and HCPs for calendar year 2018 and for recovery permits issued between July 1, 2017, and December 31, 2018.

Background

Under the authority of section 10(a)(1)(A) of the ESA, we have issued enhancement of survival permits to conduct activities that provide a conservation benefit for endangered or threatened species, or for unlisted species should they become listed in the future, in response to permit applications that we received in conjunction with a SHA or a CCAA.

Recovery permits have been issued under ESA section 10(a)(1)(A) to allow for take as part of activities intended to foster the recovery of listed species, typically for scientific research in order to understand better the species' long-term survival needs.

Under ESA section 10(a)(1)(B), we may issue permits for any taking otherwise prohibited by ESA section 9 if such taking is incidental to, and not the purpose of, carrying out an otherwise lawful activity (known as an incidental take permit (ITP)) and the permit applicant submits a habitat conservation plan (HCP) that meets the permit issuance criteria under section 10(a)(2)(B). Typically, applicants seek an ITP to conduct activities such as residential and commercial development, infrastructure development or maintenance, and energy development projects that range in scale from small to landscape-level planning efforts.

The permits associated with SHAs, CCAAs, and HCPs that we issued between January 2 and December 28, 2018, and the recovery permits issued between July 1, 2017, and December 31, 2018, are listed below.

Under section 10(a)(1)(A), we issued each permit only after we determined that it was applied for in good faith, that granting the permit would not be to the disadvantage of the listed species, or to the unlisted species should it be listed; that the proposed activities would benefit the recovery or the enhancement of survival of the species; and that the terms and conditions of the permits were consistent with the purposes and policy set forth in the ESA.

Under section 10(a)(1)(B), we issued permits only after we determined that the applicant is eligible and has submitted a complete application and HCP that fully meets the permit issuance criteria consistent with section 10(a)(2)(B).

Permits Issued

Hawaii, Idaho, Oregon (Except for the Klamath Basin), Washington, American Samoa, Commonwealth of the Northern Mariana Islands, Guam, and the Pacific Trust Territories

The following permits, sorted by type of permit or agreement and date issued in the table below, were applied for and issued by the Regional office responsible for section 10 permitting in the States and territories listed above.

HCPs and SHAs

For more information about any of the following HCP or SHA permits, contact the field office that issued the permit by telephone at the appropriate telephone number:

Oregon Fish and Wildlife Office (OR): 503-231-6179.

Washington Fish and Wildlife Office (WA): 360-753-9440.

Pacific Islands (HI): 808-792-9400.

Recovery Permits

For more information about any of the following recovery permits, contact the Recovery Permit Coordinator by email at PermitsR1ES@fws.gov or by telephone at 503-231-6131.

Permit No. | Plan or agreement type | Permittee | Date issued
TE91853B-1 | HCP (WA) | KAUFMAN HOLDINGS, INC | 6/14/2018
TE72314C-0 | HCP (WA) | LLCWALTERS GRANDCHILDREN WASHINGTON, LLC | 6/14/2018
TE09651B-1 | HCP (WA) | GREEN DIAMOND RESOURCES COMPANY | 8/3/2018
TE90139C-0 | HCP (WA) | SERIES ONE OF TWIN CREEKS | 8/13/2018
TE35858C-0 | HCP (WA) | UCP SAGEWOOD | 8/13/2018
TE01952D-0 | HCP (HI) | LLCNA PUA MAKANI POWER PARTNERS, LLC | 9/7/2018
TE84922C-0 | HCP (WA) | TODD ANDREW TVETEN | 9/19/2018
TE57529C-0 | SHA (WA) | GRAY MARSH LLC | 3/7/2018
TE92463C-0 | SHA (HI) | KAMEHAMEHA SCHOOLS, TRUSTEES OF THE ESTATE OF BERNICE PAUAHI BISHOP | 6/22/2018
TE01952D-0 | SHA (OR) | ROSEBURG RESOURCES CO | 8/13/2018
TE40423 | Recovery | KEVIN J. ROE | 7/5/2017
TE125620 | Recovery | BURNS & MCDONNELL ENGINEERING COMPANY, INC | 7/19/2017
TE42183A | Recovery | BURNS & MCDONNELL ENGINEERING COMPANY, INC | 7/19/2017
TE125620 | Recovery | BURNS & MCDONNELL ENGINEERING COMPANY, INC | 7/19/2017
TE98596B | Recovery | VESELKA, SARAH ELIZABETH | 7/26/2017
TE98486B | Recovery | UNIVERSITY OF MISSISSIPPI BIOLOGY DEPARTMENT | 8/2/2017
TE40523A | Recovery | NELSON, DAVID H | 8/7/2017
TE117405 | Recovery | TENNESSEE VALLEY AUTHORITY | 8/20/2017
TE002412 | Recovery | COMALANDER, CECIL LAMAR | 8/22/2017
TE78919A | Recovery | EAST COAST ZOOLOGICAL SOCIETY | 8/25/2017
TE59798B | Recovery | DAGUNA CONSULTING, LLC | 8/25/2017
TE121059 | Recovery | ROUND MOUNTAIN BIOLOGICAL & ENVIRONMENTAL STUDIES, INC | 8/25/2017
TE070846 | Recovery | WALTERS, JEFFREY R | 8/29/2017
TE68616B | Recovery | ATKINSON, CARLA LEE | 8/29/2017
TE23537C | Recovery | APPALACHIAN ECOLOGICAL SERVICES, LLC | 9/6/2017
TE079883 | Recovery | ARKANSAS HIGHWAY AND TRANSPORTATION DEPARTMENT | 9/7/2017
TE65334A | Recovery | MOLANO—FLORES, BRENDA | 9/13/2017
TE47720B | Recovery | PEREZ, HECTOR E | 9/15/2017
TE171516 | Recovery | COPPERHEAD ENVIRONMENTAL CONSULTING, INC | 9/15/2017
TE30733C | Recovery | THALKEN, MARISSA MICHELLE | 9/15/2017
TE237544 | Recovery | GOLLADAY, STEPHEN W | 10/2/2017
TE06337C | Recovery | LOUGHMAN, ZACHARY J | 10/2/2017
TE34387C | Recovery | U.S. FISH AND WILDLIFE SERVICE | 10/5/2017
TE055241 | Recovery | MONTGOMERY, ROBERT L | 10/10/2017
TE12169B | Recovery | MITIGATION MANAGEMENT | 10/10/2017
TE91733B | Recovery | ADAMS, JOSHUA J | 10/17/2017
TE02167C | Recovery | GORE, JAMES WILLIAM | 10/18/2017
TE37652B | Recovery | BLUE RIDGE PARKWAY—NATIONAL PARK SERVICE | 10/27/2017
TE00479C | Recovery | JOHNSON, KEVIN LAYNE | 11/1/2017
TE206894 | Recovery | ROTHERMEL, BETSIE B | 11/2/2017
TE81756A | Recovery | ROBINSON, JASON B | 11/13/2017
TE063179 | Recovery | EDWARDS—PITMAN ENVIRONMENTAL, INC | 11/14/2017
TE106708 | Recovery | MORRISON, JOAN L | 11/19/2017
TE05565B | Recovery | UT-BATELLE CORP | 12/5/2017
TE98532B | Recovery | FRIDELL, JOHN A | 12/6/2017
TE43261B | Recovery | ALTMAN, ANN M | 12/8/2017
TE148282 | Recovery | WILHIDE, JACK (J.D.) D | 12/13/2017
TE57120C | Recovery | ALTAMAHA ENVIRONMENTAL CONSULTING, LLC | 12/15/2017
TE55292B | Recovery | UNIVERSITY OF FLORIDA | 12/20/2017

Arizona, New Mexico, Oklahoma, and Texas

The following permits, sorted by type of permit or agreement and date issued in the table below, were applied for and issued by the Regional office responsible for section 10 permitting in the States listed above.

HCPs, CCAAs, and SHAs

For more information about any of the following HCP, CCAA, or SHA permits, contact the HCP, CCAA, or SHA Permit Coordinator by email at FW2_HCP_Permits@fws.gov or by telephone at 505-248-6651.

Recovery Permits

For more information about any of the following recovery permits, contact the Recovery Permit Coordinator by email at PermitsR2ES@fws.gov or by telephone at 505-248-6920.

Permit No. | Plan or agreement type | Permittee | Date issued
TE00948C-0 | CCAA | ARIZONA ELECTRIC POWER COOPERATION, INC | 5/31/2018
TE36242C-1 | HCP | SAN ANTONIO WATER SYSTEM, ROBERT R. PUENTE, PRESIDENT/CEO | 1/10/2018
TE86834-1 | HCP | LOWER COLORADO RIVER MULTI-SPECIES CONSERVATION PROGRAM | 3/5/2018
TE10556-4 | HCP | AARON ROSS | 5/1/2018
TE62866C-0 | HCP | WEST TRAVIS COUNTY PUBLIC UTILITY AGENCY | 9/5/2018
TE10607-0 | HCP | BARTON SPRINGS/EDWARDS ACQUIFER CONSERVATION DISTRICT | 9/11/2018
TE81211C-0 | HCP | AMERICAN ELECTRIC SERVICE CORPORATION | 11/30/2018
TE55026C-0 | HCP | AMERUCAB ELECTRIC POWER OKLAHOMA TRANSMISSION | 4/2/2108
TE071287 | Recovery | CHRISTMAN, BRUCE LOUIS | 8/4/2017
TE40343C | Recovery | HUFFMAN, DAVID G | 8/21/2017
TE88788B | Recovery | SUMMERLIN, JEFFERSON B | 8/24/2017
TE054791 | Recovery | MARSHALL, BRYCE L | 9/8/2017
TE814933 | Recovery | TEXAS PARKS & WILDLIFE DEPARTMENT | 9/14/2017
TE32916C | Recovery | G.M. SUTTON AVIAN RESEARCH CENTER | 9/21/2017
TE21840C | Recovery | WILDWOOD ENVIRONMENTAL CREDIT COMPANY | 9/21/2017
TE22964C | Recovery | MEMPHIS ZOO | 9/25/2017
TE72079A | Recovery | RINNE, JOHN N. | 9/25/2017
TE25105C | Recovery | TRATHNIGG, HEIDI KLOEPPEL | 9/25/2017
TE232639 | Recovery | DESCO ENVIRONMENTAL CONSULTANTS, LP | 9/30/2017
TE34460C | Recovery | GROUSE MOUNTAIN ENVIRONMENTAL CONSULTANTS, LLC | 9/30/2017
TE835139 | Recovery | HAWKS ALOFT, INC | 9/30/2017
TE048464 | Recovery | ROBERTS, JOANNE MARIE | 9/30/2017
TE37484A | Recovery | BALCONES CANYONLANDS NATIONAL WILDLIFE REFUGE | 10/3/2017
TE023643 | Recovery | U.S. ARMY, III CORPS AND FORT HOOD | 10/3/2017
TE35802C | Recovery | GEODATA CRAWLER RESEARCH INSTITUTE | 11/1/2017
TE051819 | Recovery | FORT WORTH ZOOLOGICAL PARK | 11/13/2017
TE72065A | Recovery | PRESCOTT NATIONAL FOREST | 11/13/2017
TE794593 | Recovery | TEXAS STATE AQUARIUM | 11/13/2017
TE25609A | Recovery | THE PEREGRINE FUND | 11/13/2017
TE819558 | Recovery | USFS NATIONAL FORESTS AND GRASSLANDS IN TEXAS | 11/20/2017
TE051839 | Recovery | U.S. FISH AND WILDLIFE SERVICE, REGION 2 | 12/4/2017
TE72321B | Recovery | FRANCKE, CHRISTOPHER E | 12/7/2017
TE040346 | Recovery | THE KAUFFMAN GROUP | 12/12/2017
TE29890C | Recovery | MATRIX CONSULTING NM | 12/22/2017
TE43777A | Recovery | SEA LIFE US, LLC | 12/22/2017
TE43754A | Recovery | TURNER ENDANGERED SPECIES FUND, LLC | 12/22/2017
TE053085 | Recovery | BUREAU OF RECLAMATION—BOULDER CITY | 1/8/2018
TE829996 | Recovery | HOUSTON ZOO, INC | 1/8/2018
TE834782 | Recovery | WESTLAND RESOURCES, INC | 1/15/2018
TE10107C | Recovery | BANDELIER NATIONAL MONUMENT | 1/22/2018
TE828830 | Recovery | BUREAU OF LAND MANAGEMENT—TUCSON FIELD OFFICE | 1/31/2018
TE13598B | Recovery | BURFORD, BRADLEY BYRON | 1/31/2018
TE798920 | Recovery | CITY OF AUSTIN | 1/31/2018
TE028605 | Recovery | SWCA ENVIRONMENTAL CONSULTANTS—FLAGSTAFF | 1/31/2018
TE94739A | Recovery | TRAVIS AUDUBON SOCIETY, INC | 1/31/2018
TE88512A | Recovery | NEW MEXICO DEPARTMENT OF TRANSPORTATION ENVIRONMENTAL BUREAU | 2/5/2018
TE676811 | Recovery | U.S. FISH AND WILDLIFE SERVICE, REGION 2 | 2/13/2018
TE37418B | Recovery | BROWN AND GAY ENGINEERS, INC | 2/28/2018
TE11267C | Recovery | BUSCHOW, MARISSA ANN | 2/28/2018
TE27791B | Recovery | NATIONAL PARK SERVICE—MONTEZUMA CASTLE AND TUZIGOOT MONUMENTS | 2/28/2018
TE35437B | Recovery | USDA FOREST SERVICE—SANTA FE NATIONAL FOREST | 2/28/2018
TE230274 | Recovery | KELLER, DAVID C | 3/5/2018
TE83693A | Recovery | OKLAHOMA BIOLOGICAL SURVEY | 3/5/2018
TE19661B | Recovery | TETRA TECH, INC | 3/5/2018
TE827726 | Recovery | U.S. FOREST SERVICE—TONTO NATIONAL FOREST | 3/5/2018
TE819475 | Recovery | BUREAU OF RECLAMATION | 3/12/2018
TE207369 | Recovery | U.S. ARMY GARRISON—FT. HUACHUCA | 3/19/2018
TE205717 | Recovery | COLLINS, VALERIE M | 3/26/2018
TE776123 | Recovery | TEXAS A & M UNIVERSITY—GALVESTON | 3/26/2018
TE85077A | Recovery | ZARA ENVIRONMENTAL LLC | 3/26/2018
TE77510C | Recovery | HAYES, MATTHEW T | 4/2/2018
TE37047A | Recovery | SEA WORLD PARKS AND ENTERTAINMENT | 4/2/2018
TE127287 | Recovery | AMMERMAN, LOREN K. | 4/9/2018
TE109028 | Recovery | COURAGE, SUSAN ANNE | 4/9/2018
TE48900C | Recovery | GELUSO, KEITH | 4/9/2018
TE799103 | Recovery | HICKS & COMPANY | 4/9/2018
TE000948 | Recovery | WESTERN NEW MEXICO UNIVERSITY | 4/9/2018
TE830177 | Recovery | UNIVERSITY OF TEXAS MARINE SCIENCE INSTITUTE | 4/11/2018
TE039466 | Recovery | USGS—IDAHO COOPERATIVE FISH & WILDLIFE RESEARCH UNIT | 4/12/2018
TE43746A | Recovery | NORTHERN ARIZONA UNIVERSITY | 4/16/2018
TE006655 | Recovery | LOGAN SIMPSON DESIGN, INC | 4/23/2018
TE87818B | Recovery | GREGORY, MELANIE L | 4/25/2018
TE181762 | Recovery | SEA TURTLE, INC | 4/25/2018
TE826091 | Recovery | BUREAU OF LAND MANAGEMENT—PHOENIX | 5/1/2018
TE814833 | Recovery | U.S. FOREST SERVICE, ROCKY MOUNTAIN RESEARCH STATION | 5/7/2018
TE17901C | Recovery | VOYLES, JAMIE L | 5/7/2018
TE65846A | Recovery | SAGUARO NATIONAL PARK | 5/14/2018
TE25946A | Recovery | ANDREWS, CHARLIE F | 5/21/2018
TE97824A | Recovery | SMITH ENVIRONMENTAL AND RESEARCH CONSULTING HOUSE, LLC | 5/21/2018
TE037155 | Recovery | BIO-WEST, INC | 5/22/2018
TE166250 | Recovery | MIAMI UNIVERSITY | 5/22/2018
TE815409 | Recovery | NEW MEXICO DEPARTMENT OF GAME & FISH | 5/22/2018
TE79165C | Recovery | RANDKLEV, CHARLES ROBERT | 5/22/2018
TE78507C | Recovery | STOECKEL, JAMES A | 5/22/2018
TE63200B | Recovery | AUDUBON ARIZONA | 5/23/2018
TE58221C | Recovery | DASILVA, JORGE ALBERTO | 5/23/2018
TE81148C | Recovery | BEAUREGARD, NICHOLAS DAVID | 5/25/2018
TE66177C | Recovery | NEWGORD, GARY ERIC | 5/25/2018
TE32832C | Recovery | USFWS BUENOS AIRES NATIONAL WILDLIFE REFUGE | 5/25/2018
TE044359 | Recovery | ENERCON SERVICES, INC | 5/31/2018
TE78625C | Recovery | MA, JESSICA | 6/1/2018
TE045236 | Recovery | SWCA, INCRPORATED | 6/4/2018
TE86884B | Recovery | LILLIE, SCOTT LEE | 6/5/2018
TE93542C | Recovery | NEW MEXICO STATE UNIVERSITY | 6/5/2018
TE144755 | Recovery | REAGAN SMITH ENERGY SOLUTIONS, INC | 6/11/2018
TE85994C | Recovery | BOAL, CLINT W | 6/25/2018
TE63022C | Recovery | KARRAKER, NANCY E. | 6/26/2018
TE840727 | Recovery | NATIONAL PARK SERVICE | 8/31/2018
TE72371C | Recovery | BOONE, AARON TED | 9/1/2018
TE79697C | Recovery | CLARK, BARRETT R | 9/1/2018
TE71110C | Recovery | DURISH, NEVIN D | 9/1/2018
TE17880C | Recovery | GARRETT, TIMOTHY BRENT | 9/1/2018
TE69480C | Recovery | HAVERLAND, MATTHEW BRYAN | 9/1/2018
TE74409C | Recovery | KITCHEN, MATTHEW VAL | 9/1/2018
TE00284A | Recovery | RAINWATER, STEPHANIE KAYE | 9/1/2018
TE71101C | Recovery | RAMIREZ, ABBEY L | 9/1/2018
TE77509C | Recovery | SCHUSTER, SARA A | 9/1/2018
TE08548B | Recovery | USGS—SOUTHWEST BIOLOGICAL SCIENCE CENTER | 9/1/2018
TE04322D | Recovery | WALDT, RALPH W | 9/1/2018
TE168185 | Recovery | COX/MCLAIN ENVIRONMENTAL CONSULTING, INC | 9/10/2018
TE71114C | Recovery | KAINER, PATRICK A | 9/10/2018
TE72895C | Recovery | SCHATTE, JOSHUA P | 9/10/2018
TE73319B | Recovery | THOMPSON, BRENT E | 9/10/2018
TE72898C | Recovery | WILLIAMS, DAVID X | 9/10/2018
TE40886B | Recovery | ZAHRATKA, JENNIFER L | 9/10/2018
TE92454A | Recovery | EL PASO ZOO | 9/21/2018
TE44542B | Recovery | OLSSON ASSOCIATES | 9/21/2018
TE207863 | Recovery | AECOM TECHNICAL SERVICES, INC | 9/28/2018
TE833851 | Recovery | CITY OF AUSTIN—WATERSHED PROTECTION DEPARTMENT | 9/28/2018
TE800611 | Recovery | SWCA, INCRPORATED | 9/30/2018
TE103076 | Recovery | TRANSCON ENVIRONMENTAL, INC | 10/1/2018
TE35147A | Recovery | NEWSTEAD, DAVID JOHN | 10/10/2018
TE00482C | Recovery | DILLSAVER, WILLIAM J | 10/30/2018
TE09879D | Recovery | SAGEBRUSH ADVISORS | 10/30/2018
TE41814B | Recovery | TUCSON AUDUBON SOCIETY | 10/30/2018
TE048806 | Recovery | U.S. FISH AND WILDLIFE SERVICE, REGION 2 | 11/9/2018
TE85337C | Recovery | BARNES, BRADLEY W | 11/18/2018
TE85591C | Recovery | JARRELL, JARED MATTHEW | 11/21/2018
TE041875 | Recovery | KOPROWSKI, JOHN LAD | 11/21/2018
TE85338C | Recovery | MCCOY, CHAD B | 11/21/2018
TE00974A | Recovery | MCLEAN, JESSE M | 11/21/2018
TE00975A | Recovery | OSAGE NATION, DEPARTMENT OF NATURAL RESOURCES | 11/21/2018
TE90005C | Recovery | PATTERSON, RANDE R | 11/21/2018
TE85444C | Recovery | THE CHICKASAW NATION | 11/21/2018
TE85341C | Recovery | WARD, WILLIAM A | 11/21/2018
TE082492 | Recovery | HATHCOCK, CHARLES D | 11/30/2018
TE55633C | Recovery | OWEN, JACOB D | 11/30/2018
TE023159 | Recovery | SORA | 12/6/2018
TE93531C | Recovery | STEWART, JUSTIN | 12/6/2018
TE64710A | Recovery | JACKSON, JACOB THOMAS | 12/10/2018
TE32917C | Recovery | LONG, ASHLEY M | 12/21/2018
TE148363 | Recovery | MARTIN, KEITH WILLIAM | 12/21/2018
TE59231C | Recovery | MOULTON, LAUREL LYNNE | 12/21/2018

Illinois, Indiana, Iowa, Michigan, Minnesota, Missouri, Ohio, and Wisconsin

The following permits, sorted by type of permit or agreement and date issued in the table below, were applied for and issued by the Regional office responsible for section 10 permitting in the states listed above.

HCP

The following HCP permit was applied for and issued in Region 3. For more information about the permit, contact the field office that issued the permit by telephone at Illinois-Iowa Ecological Services Field Office, 309-757-5800.

Recovery Permits

For more information about any of the following recovery permits, contact the Recovery Permit Coordinator by email at PermitsR3ES@fws.gov or by telephone at 612-713-5343.

Permit No. | Plan or agreement | Permittee | Date issued
TE016724-4 | HCP | DUKE ENERGY | 11/8/2018
TE39710C | Recovery | FOREST COUNTY POTAWATOMI COMMUNITY | 7/5/2017
TE34067C | Recovery | NATIONAL PARK SERVICE | 7/5/2017
TE34563C | Recovery | CAMPA, HENRY | 7/6/2017
TE38793A | Recovery | MIERZWA, KENNETH S | 7/12/2017
TE04397C | Recovery | AUTERI, GIORGIANNA G | 7/21/2017
TE26856C | Recovery | LANGLEY, SEAN M | 7/25/2017
TE07730A | Recovery | REDWING ECOLOGICAL SERVICES, INC | 7/27/2017
TE19208C | Recovery | MATTESON, ASHLEY M | 7/27/2017
TE26854C | Recovery | HYZY, BRENNA ANNE | 7/27/2017
TE11145C | Recovery | KLEINSCHMIDT, LISA | 7/28/2017
TE01311C | Recovery | MCKINLEY, SHAWN D | 7/28/2017
TE38842A | Recovery | SANDERS ENVIRONMENTAL INC | 7/31/2017
TE26855C | Recovery | BAILEY, JEANETTE CATHERINE | 8/4/2017
TE64071B | Recovery | ZUERCHER, GERALD L | 8/7/2017
TE38856A | Recovery | SKELLY AND LOY, INC | 8/8/2017
TE82665A | Recovery | MYERS-KINZIE, MELODY LYNN | 9/7/2017
TE71821A | Recovery | ZANATTA, DAVID T | 9/14/2017
TE06846A | Recovery | SMITHSONIAN INSTITUTION | 9/19/2017
TE26953C | Recovery | GOODELL, KAREN | 9/20/2017
TE30471C | Recovery | MITCHELL, RANDALL J | 9/21/2017
TE27007C | Recovery | MINNESOTA DEPARTMENT OF TRANSPORTATION | 9/21/2017
TE24914C | Recovery | NORTHERN RESEARCH STATION | 9/21/2017
TE32959C | Recovery | CARIVEAU, DANIEL PAUL | 9/21/2017
TE35856C | Recovery | SPIVAK, MARLA S | 9/21/2017
TE88224B | Recovery | SNAVELY, JOSEPH CHRISTIAN | 10/20/2017
TE182436 | Recovery | ILLINOIS NATURAL HISTORY SURVEY | 11/1/2017
TE30603C | Recovery | DIEHLUX LLC | 11/17/2017
TE02560A | Recovery | CARTER, TIMOTHY C | 12/1/2017
TE40247C | Recovery | MINNESOTA DEPARTMENT OF NATURAL RESOURCES | 12/7/2017
TE36875C | Recovery | GERKE, GREGORY J | 12/7/2017
TE37601C | Recovery | SNELL-ROOD, EMILIE C | 12/7/2017
TE71041B | Recovery | KUCZYNSKA, IWONA | 12/29/2017
TE207526 | Recovery | US GEOLOGICAL SURVEY | 12/31/2017
TE26921C | Recovery | WORLD BIRD SANCTUARY | 1/4/2018
TE71720A | Recovery | FOREST PRESERVE DISTRICT OF WILL COUNTY | 1/25/2018
TE38085B | Recovery | MOUNTAIN STATE BIOSURVEYS, LLC | 1/31/2018
TE64081B | Recovery | HOYT, JOSEPH R | 2/7/2018
TE38769A | Recovery | BRADLEY, SARAH A | 2/8/2018
TE85232B | Recovery | KAISER, ZACHARY D | 2/28/2018
TE35518B | Recovery | SHEETS, JEREMY J | 2/28/2018
TE30472C | Recovery | EVANS, ELAINE C | 3/12/2018
TE64070B | Recovery | SWCA, INC | 3/12/2018
TE41689C | Recovery | RICHARDSON, LEIF L | 3/12/2018
TE54397C | Recovery | TITUS, KEIFER L | 3/23/2018
TE212440 | Recovery | BAT CONSERVATION AND MANAGEMENT, INC | 3/26/2018
TE06801A | Recovery | PITTSBURGH WILDLIFE & ENVIRONMENTAL, INC | 3/28/2018
TE151109 | Recovery | OHIO DEPARTMENT OF NATURAL RESOURCES | 3/30/2018
TE35859B | Recovery | MILLS, CHARLES E | 4/2/2018
TE26953C | Recovery | GOODELL, KAREN | 4/4/2018
TE30471C | Recovery | MITCHELL, RANDALL J | 4/4/2018
TE07358A | Recovery | CIVIL AND ENVIRONMENTAL CONSULTANTS, INC | 4/10/2018
TE53616C | Recovery | ILLINOIS NATURAL HISTORY SURVEY | 4/18/2018
TE90090B | Recovery | POWER ENGINEERS, INC | 4/18/2018
TE38087B | Recovery | HICKEY-MILLER, JESSICA L | 4/23/2018
TE23734 | Recovery | ENVIRONMENTAL SOLUTIONS AND INNOVATIONS, INC | 4/27/2018
TE207180 | Recovery | OHIO DEPARTMENT OF NATURAL RESOURCES | 5/4/2018
TE234121 | Recovery | WESTERN ECOSYSTEMS TECHNOLOGY, INC | 5/14/2018
TE85228B | Recovery | SCHRODER, ERIC STEVEN | 5/18/2018
TE40247C | Recovery | MINNESOTA DEPARTMENT OF NATURAL RESOURCES | 5/25/2018
TE70488C | Recovery | BERGESON, SCOTT M | 5/29/2018
TE106220 | Recovery | WALTERS, BRIANNE LORRAINE | 5/29/2018
TE64984C | Recovery | COOPER, BRIAN L | 5/30/2018
TE26856C | Recovery | LANGLEY, SEAN M | 5/31/2018
TE64236B | Recovery | MAINE, JOSIAH J | 5/31/2018
TE71680A | Recovery | MARTIN, MEGAN K | 5/31/2018
TE21829B | Recovery | BISHOP-BOROS, LARISA J | 5/31/2018
TE07730A | Recovery | REDWING ECOLOGICAL SERVICES, INC | 6/7/2018
TE73587A | Recovery | MISSOURI DEPARTMENT OF CONSERVATION | 6/11/2018
TE86137B | Recovery | THE NATURE CONSERVANCY MINNESOTA CHAPTER | 6/14/2018
TE64079B | Recovery | MINNESOTA ZOOLOGICAL GARDEN | 6/14/2018
TE99059B | Recovery | UNIVERSITY OF WISCONSIN-MADISON | 6/18/2018
TE30472C | Recovery | EVANS, ELAINE C | 6/21/2018
TE27007C | Recovery | SMITH, CHRISTOPHER E | 6/25/2018
TE64986C | Recovery | GORDON, JEFFREY D | 6/27/2018
TE62286A | Recovery | WHITTLE, JASON B | 6/28/2018
TE64238B | Recovery | KARSK, JOCELYN R | 6/29/2018
TE151107 | Recovery | REDWING ECOLOGICAL SERVICES, INC | 6/29/2018
TE30970B | Recovery | MILLER, JEFFREY C | 6/29/2018
TE39719C | Recovery | FOREST COUNTY POTAWATOMI COMMUNITY | 7/3/2018
TE60958A | Recovery | BAT CALLS IDENTIFICATION, INC | 7/9/2018
TE74592A | Recovery | BROWN, ROBERT J | 7/9/2018
TE21831B | Recovery | CALDWELL, KATHERINE L | 7/23/2018
TE06845A | Recovery | LOCHMUELLER GROUP, INC | 7/27/2018
TE82666A | Recovery | BOYLES, JUSTIN G | 7/31/2018
TE26856C | Recovery | LANGLEY, SEAN M | 8/1/2018
TE75774C | Recovery | CONWAY, WESLEY P | 8/29/2018
TE74742C | Recovery | SMITH, BENJAMIN A | 8/29/2018
TE64077B | Recovery | KRYCH, SCOTT ANTHONY | 8/31/2018
TE85294C | Recovery | WOLF, AMY T | 9/13/2018
TE84882C | Recovery | US FOREST SERVICE | 9/13/2018
TE81001C | Recovery | ZLONIS, KATHARINE J | 9/13/2018
TE81122C | Recovery | THREE RIVERS PARK DISTRICT | 9/13/2018
TE90426C | Recovery | DINGLEDINE, NATALIE A | 9/18/2018
TE81137C | Recovery | LUTHER COLLEGE | 9/19/2018
TE15664C | Recovery | MCKAY, APRIL I. R | 9/20/2018
TE15027A | Recovery | STANTEC CONSULTING SERVICES, INC | 9/21/2018
TE02373A | Recovery | ENVIRONMENTAL SOLUTIONS AND INNOVATIONS, INC | 9/26/2018
TE89557A | Recovery | TRC COMPANIES, INC | 9/27/2018
TE85231B | Recovery | KALAMAZOO NATURE CENTER | 9/28/2018
TE77125C | Recovery | LIPPS, GREGORY J | 9/28/2018
TE06452D | Recovery | NATIONAL PARK SERVICE APOSTLE ISLANDS NATIONAL LAKESHORE | 10/1/2018
TE64073B | Recovery | ECOLOGICAL AND GIS SERVICES | 10/9/2018
TE95228C | Recovery | VANDEWALLE, TERRY J | 10/18/2018
TE95225C | Recovery | THE ECOLOGICAL CONSULTING GROUP, LLC | 10/18/2018
TE64073B | Recovery | ECOLOGICAL AND GIS SERVICES | 10/23/2018
TE98032A | Recovery | GARDNER, JAMES E | 10/26/2018
TE64235B | Recovery | O'LEARY, WILLIAM | 11/30/2018
TE19173A | Recovery | CHICAGO BOTANIC GARDEN | 11/30/2018
TE90423C | Recovery | BARNETT, SHAUGHN E | 12/21/2018

Alabama, Arkansas, Florida, Georgia, Kentucky, Louisiana, Mississippi, North Carolina, South Carolina, and Tennessee, Commonwealth of Puerto Rico, and the U.S. Virgin Islands

The following permits, sorted by type of permit or agreement and date issued in the table below, were applied for and issued by the Regional office responsible for section 10 permitting in the States and territories listed above.

HCPs and CCAA

For more information about the CCAA or any of the following HCPs, contact the HCP or CCAA Permit Coordinator by email at PermitsR4ES@fws.gov or by telephone at 404-679-7140.

Recovery Permits

For more information about any of the recovery permits, contact the Recovery Permit Coordinator by email at PermitsR4ES@fws.gov or by telephone at 404-679-7140.

Permit No. | Plan or agreement | Permittee | Date issued
TE06594C | CCAA | LOUISIANA DEPARTMENT OF WILDLIFE AND FISHERIES | 1/15/2018
TE12889D | CCAA | CITY OF HUNTSVILLE | 10/29/2018
TE93544C | CCAA | CITY OF HUNTSVILLE | 10/29/2018
TE 46110C | HCP | ORANGE COUNTY UTILITIES | 1/24/2018
TE 98666 | HCP | SUGGS, DALE RAYMOND | 1/26/2018
TE 70601 | HCP | GARMON, LINDA N | 2/9/2018
TE 74747C | HCP | KANINE PROPERTIES, LLC | 2/9/2018
TE 50490C | HCP | LENNAR CORPORATION | 2/9/2018
TE 13012B | HCP | SMITH, DAVID E | 2/9/2018
TE 74762C | HCP | WILSON, DAVID B | 2/9/2018
TE 74748C | HCP | BROUSSARD, MARYGAIL W | 3/5/2018
TE 75596C | HCP | COLLINS, MATTHEW S | 3/12/2018
TE 72134C | HCP | CREWS, GREG S | 3/12/2018
TE 63420C | HCP | SARGENT, ELISA LYN | 3/12/2018
TE 81210C | HCP | THRASHER, BARRETT A | 3/16/2018
TE 59397C | HCP | CITY OF WINTER HAVEN | 4/20/2018
TE 85570C | HCP | BENSING, MICHAEL L | 4/27/2018
TE 12514C | HCP | IRA INNOVATIONS LLC | 4/27/2018
TE 83981C | HCP | JBKT LLC | 4/27/2018
TE 84036C | HCP | OPENSHAW, WILLIAM A | 4/27/2018
TE 21091C | HCP | CEMEX CONSTRUCTION MATERIALS FLORIDA, LLC | 4/30/2018
TE 84034C | HCP | WEST BEACH LLC | 5/3/2018
TE 84040C | HCP | MARLAR, DAN L | 5/4/2018
E 60480C | HCP | SAVI INVESTMENTS, LLC | 5/17/2018
TE 59070C | HCP | DR. HORTON, INC | 5/18/2018
TE 87970C | HCP | LINDSAY, ARNOLD F | 5/21/2018
TE 84038C | HCP | STEVENS, JIMMY D | 5/21/2018
TE 83974C | HCP | TURNER, CRAIG M | 5/21/2018
TE 236128 | HCP | MOSAIC FERTILIZER LLC | 5/22/2018
TE 74732C | HCP | ORANGE COUNTY PUBLIC SCHOOLS | 5/25/2018
TE 102005 | HCP | SHORES LLC, BREEZY | 6/29/2018
TE 95388C | HCP | BENTLEY, ROBERT J | 7/9/2018
TE 95368C | HCP | COLLOVA, WILLIAM | 7/9/2018
TE 95386C | HCP | FAUCHEUX, CORY | 7/9/2018
TE 63724C | HCP | SUCO, CARA L | 7/9/2018
TE 93592A | HCP | DUKE ENERGY FLORIDA, LLC | 7/18/2018
TE 78729 | HCP | CUSTOM HOMES LLC, ISLAND DEVELOPMENT | 7/23/2018
TE 95387C | HCP | RYAN, JAMES PATRICK | 7/23/2018
TE 96157C | HCP | ROMAR VISTA, LLC | 8/3/2018
TE 98759C | HCP | MARLAR, DANIEL L | 8/6/2018
TE 98821C | HCP | WHEELER, BENTON M | 8/6/2018
TE 98820C | HCP | COX, ANDREW MICHAEL | 8/7/2018
TE 69953C | HCP | LAND ACQUISITION ONE, LLC | 8/15/2018
TE 90500B | HCP | BENNETT, JENNIFER | 8/23/2018
TE 69950C | HCP | TOHOPEKALIGA WATER AUTHORITY | 8/23/2018
TE 69951C | HCP | K. HOVNANIAN AT MYSTIC DUNES, LLC | 8/28/2018
TE 69952C | HCP | CLAY CUT, LLC. | 8/30/2018
TE 05530D | HCP | HELTON, KATHY A | 9/19/2018
TE 84363C | HCP | CITY OF GULF SHORES | 10/9/2018
TE 27735B | HCP | COOK , MILES STANLEY | 10/10/2018
TE 160192 | HCP | MCCULLERS, CHRISTOPHER R | 10/10/2018
TE 05532D | HCP | MCMAHAN, JO | 10/10/2018
TE 35089B | HCP | WARD VACATION PROPERTIES | 10/10/2018
TE 08525D | HCP | CONNELLY, JOHN A | 10/11/2018
TE 59063C | HCP | M/I HOMES OF ORLANDO, LLC | 10/31/2018
TE 12895D | HCP | WEEKS, AMY G | 11/5/2018
TE 05529D | HCP | DACE, PAMELA L | 11/9/2018
TE 11932D | HCP | FERGUSON, MICHAEL W | 11/9/2018
TE 12894D | HCP | POLING, DAVID W | 11/9/2018
TE 84046C | HCP | RESIDENTIAL DEVELOPMENT CORP | 11/12/2018
TE 14507D | HCP | GOSSETT, CHRIS AND LAURA | 12/7/2018
TE 11097C | HCP | JONES, CHARLES L | 12/7/2018
TE 98747C | HCP | MCDONALD VENTURES XXXVIII, LLC | 12/10/2018
TE 14508D | HCP | ED MOTES & JANICE A. MURRAY | 12/13/2018
TE 21579D | HCP | BALDWIN COUNTY COMMISSION | 12/21/2018
TE 103269 | HCP | DARREN WIGGINS | 12/21/2018
TE 19157D | HCP | INDIES CONDOMINIUM ASSOCIATION, INC | 12/21/2018
TE040423 | Recovery | ROE, KEVIN J | 7/5/2017
TE125620 | Recovery | BURNS & MCDONNELL ENGINEERING COMPANY, INC | 7/19/2017
TE42183A | Recovery | EGLIN AIR FORCE BASE | 7/19/2017
TE98596B | Recovery | VESELKA, SARAH ELIZABETH | 7/26/2017
TE98486B | Recovery | UNIVERSITY OF MISSISSIPPI BIOLOGY DEPARTMENT | 8/2/2017
TE40523A | Recovery | NELSON, DAVID H | 8/7/2017
TE117405 | Recovery | TENNESSEE VALLEY AUTHORITY | 8/20/2017
TE002412 | Recovery | COMALANDER, CECIL LAMAR | 8/22/2017
TE59798B | Recovery | DAGUNA CONSULTING, LLC | 8/25/2017
TE78919A | Recovery | EAST COAST ZOOLOGICAL SOCIETY | 8/25/2017
TE121059 | Recovery | ROUND MOUNTAIN BIOLOGICAL & ENVIRONMENTAL STUDIES, INC | 8/25/2017
TE68616B | Recovery | ATKINSON, CARLA LEE | 8/29/2017
TE070846 | Recovery | WALTERS, JEFFREY R | 8/29/2017
TE23537C | Recovery | APPALACHIAN ECOLOGICAL SERVICES, LLC | 9/6/2017
TE079883 | Recovery | ARKANSAS HIGHWAY AND TRANSPORTATION DEPARTMENT | 9/7/2017
TE65334A | Recovery | MOLANO-FLORES, BRENDA | 9/13/2017
TE47720B | Recovery | PEREZ, HECTOR E | 9/15/2017
TE171516 | Recovery | COPPERHEAD ENVIRONMENTAL CONSULTING, INC | 9/15/2017
TE30733C | Recovery | THALKEN, MARISSA MICHELLE | 9/15/2017
TE237544 | Recovery | GOLLADAY, STEPHEN W | 10/2/2017
TE06337C | Recovery | LOUGHMAN, ZACHARY J | 10/2/2017
TE34387C | Recovery | U.S. FISH AND WILDLIFE SERVICE | 10/5/2017
TE12169B | Recovery | MITIGATION MANAGEMENT | 10/10/2017
TE055241 | Recovery | MONTGOMERY, ROBERT L | 10/10/2017
TE91733B | Recovery | ADAMS, JOSHUA J | 10/17/2017
TE37652B | Recovery | BLUE RIDGE PARKWAY—NATIONAL PARK SERVICE | 10/27/2017
TE129703 | Recovery | HMB PROFESSIONAL ENGINEERS, INC | 3/20/2018
TE075916 | Recovery | VIRZI, THOMAS | 3/21/2018
TE26554C | Recovery | CENTRAL FLORIDA ZOOLOGICAL SOCIETY | 3/22/2018
TE71854A | Recovery | EARGLE, DAVID A | 3/22/2018
TE28975C | Recovery | STALLSMITH, BRUCE WAGNER | 3/22/2018
TE34429C | Recovery | BUSCHHAUS, NANCY L | 3/23/2018
TE63577A | Recovery | MAMMOTH CAVE NATIONAL PARK | 3/29/2018
TE049654 | Recovery | GORDON, WILLIAM DAVID | 4/2/2018

Connecticut, Delaware, District of Columbia, Maine, Maryland, Massachusetts, New Hampshire, New Jersey, New York, Pennsylvania, Rhode Island, Vermont, Virginia, and West Virginia

No ITPs for HCPs, enhancement of survival permits for CCAAs or SHAs, or recovery permits were applied for in the Regional office responsible for section 10 permitting in the States listed above.

Colorado, Kansas, Montana, Nebraska, North Dakota, South Dakota, Utah, and Wyoming

The following permits, sorted by type of permit or agreement and date issued in the table below, were applied for and issued by the Regional office responsible for section 10 permitting in the States listed above.

CCAAs and HCPs

For more information about any of the following permits for CCAAs or HCPs, contact the HCP or CCAA Permit Coordinator by email at amelia_orton-palmer@fws.gov, or by telephone at 303-236-4211.

Recovery Permits

For more information about any of the following recovery permits, contact the Recovery Permit Coordinator by email at PermitsR6ES@fws.gov, or by telephone at 303-236-4224.

Permit No. | Plan or agreement | Permittee | Date issued
TE62289C | CCAA | THE NATURE CONSERVANCY | 1/4/2018
TE88361B | CCAA | VOSBURG, GARY D | 7/26/2018
TE06990D | CCAA | MONTANA FISH, WILDLIFE & PARKS | 9/12/2018
TE83104C | HCP | BEAVER COUNTY | 4/10/2018
TE03107C | HCP | GARFIELD COUNTY | 4/10/2018
TE83406C | HCP | IRON COUNTY | 4/10/2018
TE60208A | HCP | MONTANA DEPT OF NATURAL RESOURCES AND CONSERVATION | 8/31/2018
TE86119C-0 | HCP | WAYNE COUNTY | 12/18/2018
TE41329C | Recovery | MANZANITA BOTANICAL CONSULTING | 7/11/2017
TE27486B | Recovery | WETLAND DYNAMICS, LLC | 7/14/2017
TE053925 | Recovery | NATIONAL PARK SERVICE NIOBRARA NSR | 7/24/2017
TE051826 | Recovery | LOUISVILLE ZOOLOGICAL GARDENS | 7/24/2017
TE051139 | Recovery | TURNER ENDANGERED SPECIES FUND, LLC | 7/24/2017
TE37351A | Recovery | SPOMER, STEPHEN M | 7/24/2017
TE131398 | Recovery | LOWER BRULE SIOUX TRIBE DEPT WILDLIFE, FISH AND RECREATION | 7/24/2017
TE040748 | Recovery | CHEYENNE MOUNTAIN ZOO | 7/24/2017
TE121911 | Recovery | BUREAU OF LAND MANAGEMENT | 7/25/2017
TE064682 | Recovery | PRAIRE WILDLIFE RESEARCH, INC | 7/25/2017
TE047285 | Recovery | US GEOLOGICAL SURVEY CERC | 7/27/2017
TE040510 | Recovery | ERO RESOURCES COPRORATION | 10/18/2017
TE210754 | Recovery | LINCOLN CHILDREN'S ZOO | 10/18/2017
TE077684 | Recovery | MEMPHIS ZOOLOGICAL SOCIETY | 10/18/2017
TE121914 | Recovery | US GEOLOGICAL SURVEY | 11/2/2017
TE67018A | Recovery | NATIONAL PARK SERVICE | 11/2/2017
TE56825C | Recovery | SOUTH DAKOTA STATE UNIVERSITY | 2/9/2018
TE27147C | Recovery | ST PIERRE, JASON E | 2/12/2018
TE89157A | Recovery | EDM INTERNATIONAL, INC | 2/12/2018
TE237961 | Recovery | HWA WILDLIFE CONSULTING, LLC | 2/12/2018
TE37337A | Recovery | NATIONAL MISSISSIPPI RIVER MUSEUM & AQUARIUM | 2/12/2018
TE71872A | Recovery | WYOMING NATURAL DIVERSITY DATABASE | 2/28/2018
TE051715 | Recovery | BIOTA RESEARCH AND CONSULTING, INC | 3/21/2018
TE054317 | Recovery | INTERWEST WILDLIFE & ECOLOGICAL SERVICES, INC | 3/21/2018
TE051715 | Recovery | BIOTA RESEARCH AND CONSULTING, INC | 3/21/2018
TE057485 | Recovery | NATIONAL PARK SERVICE | 4/2/2018
TE165829 | Recovery | BUREAU OF LAND MANAGEMENT | 4/2/2018
TE237960 | Recovery | POWER ENGINEERS | 4/2/2018
TE106182 | Recovery | DENVER BOTANIC GARDENS, INC | 4/9/2018
TE64613B | Recovery | PHILLIPS, ANDREW L | 4/10/2018
TE68706C | Recovery | GUY, CHRISTOPHER S | 4/11/2018
TE044836 | Recovery | ENVIRONMENTAL INDUSTRIAL SERVICES, LLC | 4/19/2018
TE26583C | Recovery | CHICAGO BOTANIC GARDEN | 4/19/2018
TE067486 | Recovery | UNIVERSITY OF NEBRASKA—LINCOLN | 5/14/2018
TE66113B | Recovery | REISER, JIM M | 5/17/2018
TE72607C | Recovery | NEW CENTURY ENVIRONMENTAL LLC | 5/18/2018
TE09941B | Recovery | FELSBURG HOLT & ULLEVIG | 5/21/2018
TE86135C | Recovery | DRAGONFLY ENVIRONMENTAL CONSULTANTS | 5/21/2018
TE85365C | Recovery | JACOBS ENGINEERING | 5/23/2018
TE66511C | Recovery | VELARDI, MILU S | 5/31/2018
TE085324 | Recovery | WYOMING NATURAL DIVERSITY DATABASE | 5/31/2018
TE064680 | Recovery | NATIONAL PARK SERVICE | 5/31/2018
TE98708A | Recovery | SOUTH DAKOTA DEPT OF ENVIRONMENT AND NATURAL RESOURCES | 8/6/2018
TE73239C | Recovery | US ARMY CORPS OF ENGINEERS | 8/6/2018
TE95376C | Recovery | BELLINI, MARK J | 8/14/2018
TE94926A | Recovery | DUNMIRE CONSULTING | 8/15/2018
TE180540 | Recovery | BUREAU OF LAND MANAGEMENT | 8/20/2018
TE59243C | Recovery | REVIVE & RESTORE | 9/17/2018
TE056079 | Recovery | COLORADO STATE UNIVERSITY | 10/1/2018
TE26584C | Recovery | TWO DOT CONSULTING | 10/1/2018

Alaska

Two recovery permits were applied for; see the table below. For more information about either of the recovery permits, contact the Recovery Permit Coordinator, by email at PermitsR7ES@fws.gov or by telephone at 907-786-3323.

Permit No. | Plan or agreement | Permittee | Date issued
TE48025C | Recovery | UNIVERSITY OF ALASKA, FAIRBANKS | 5/14/2018
TE012155 | Recovery | ABR, INC | 5/14/2018

California, Nevada, and the Klamath Basin Portion of Oregon

The following permits, sorted by type of permit or agreement and date issued in the table below, were applied for and issued by the Regional office responsible for section 10 permitting in the States and region listed above.

HCPs

For more information about any of the permits for HCPs, contact the HCP Permit Coordinator by email at dan_cox@fws.gov.

Recovery Permits

For more information about any of the following recovery permits, contact the Recovery Permit Coordinator by email at PermitsR8ES@fws.gov or by telephone at 916-414-6464.

Permit No. | Plan or agreement | Permittee | Date issued
TE43708A-0 | HCP | CITY OF SCOTTS VALLEY | 10/27/2011
TE44928A-0 | HCP | COUNTY OF SANTA CRUZ RENEWAL | 10/27/2011
TE52396C-0 | HCP | PHILLIPS 66 PIPELINE LLC—MUNOZ | 12/15/2017
3196C | HCP | ORANGE COUNTY WASTE AND RECYCLE | 2/13/2018
TE01989 | HCP | SENTIAL PEAKE RESOURCES CALIFORNIA LLC | 4/13/2018
TE82595C | HCP | CALVARY CHAPPLE SNATEE | 4/13/2018
TE93385C | HCP | PACIFIC GAS AND ELECTGRIC VEG MGMT | 7/18/2018
TE93388C | HCP | PACIFIC GAS AND ELECGTRIC VEG MGMT 1816-15 | 7/18/2018
TE97791C-0 | HCP | CITY OF SAN DIEGO | 8/3/2018
TE2171C-0 | HCP | FAIRVIEW CORNERS LLC C/O FC INVESTORS & GAVILAN COLLEGE JOINT COMMUNITY COLLEGE DISTRICT | 8/7/2018
TE05527D-0 | HCP | YOOLO HABITAT CONSERVATION PLAN PERMITTEES | 9/24/2018
TE78126C | HCP | COACHELLA VALLEY ASSOCIATION OF GOVERNMENTS | 10/9/2018
TE08937D-0 | HCP | MIDNIGHT SUN INC. II—GAVER RANCH | 10/11/2018
TE 41503C-0 | HCP | RICHARD PHILLIPS | 10/11/2018
TE237086 | Recovery | ORR, BRUCE K | 7/24/2017
TE89964A | Recovery | BARRINGER, DEBRA S | 7/25/2017
TE834489 | Recovery | TENNANT, STACIE A | 7/25/2017
TE15265B | Recovery | FLISIK, TYLER J | 7/25/2017
TE17852B | Recovery | MARTUS, CAROLYN | 7/25/2017
TE02484A | Recovery | MOORE, KARLY J | 7/25/2017
TE74590A | Recovery | SMITH, JUSTIN EARL | 7/25/2017
TE781220 | Recovery | WAGNER, WILLIAM D | 7/25/2017
TE29909C | Recovery | JONES SCHERBINSKI, JENNIE KATHLEEN | 7/25/2017
TE213728 | Recovery | CITY OF SAN DIEGO PARK & RECREATION | 7/25/2017
TE88576A | Recovery | KETSELA, KEDEST | 7/25/2017
TE036550 | Recovery | JIMERSON-KIDD, NINA L | 7/26/2017
TE79192A | Recovery | PUGH, DALLAS RYAN | 7/26/2017
TE60147A | Recovery | MOINE, HEATHER L | 7/26/2017
TE63330A | Recovery | ANDERSON, RACHEL B | 7/26/2017
TE168924 | Recovery | GURULE, JEFF E | 7/27/2017
TE810380 | Recovery | WHITNEY ENVIRONMENTAL CONSULTING, INC | 7/27/2017
TE080779 | Recovery | BUSBY, MELISSA A | 8/3/2017
TE148555 | Recovery | BRYLSKI, PHILLIP V | 8/3/2017
TE837448 | Recovery | ALLEN, DOUGLAS W | 8/7/2017
TE006112 | Recovery | PADGETT-FLOHR, GRETCHEN E | 8/8/2017
TE02399C | Recovery | SANDOVAL, HARRY | 8/8/2017
TE176209 | Recovery | SAN FRANCISCO INTERNATIONAL AIRPORT | 8/9/2017
TE793645 | Recovery | ALLEY, DONALD W | 8/10/2017
TE19906C | Recovery | TAYLOR, ROSS N | 8/14/2017
TE813431 | Recovery | FAMOLARO, PETER C | 8/15/2017
TE081306 | Recovery | CLARK, HOWARD O | 8/15/2017
TE789255 | Recovery | PATTON, ROBERT T | 8/21/2017
TE744878 | Recovery | INSTITUTE FOR WILDLIFE STUDIES | 8/21/2017
TE14554C | Recovery | MORALES, JAIME F | 8/23/2017
TE007520 | Recovery | SIMONSEN, JULIE ANNE | 8/24/2017
TE068072 | Recovery | VERGNE, PHILIPPE JEAN | 8/24/2017
TE787924 | Recovery | SPIEGELBERG, MARKUS OLIVER | 8/25/2017
TE93072A | Recovery | MULDER, JOEL J | 8/28/2017
TE09196C | Recovery | CONDOR COUNTRY CONSULTING, INC | 9/14/2017
TE27502B | Recovery | SCHUYLER, PATRICIA C | 9/15/2017
TE45247C | Recovery | SITES, ROBERT W | 9/15/2017
TE203391 | Recovery | NEVADA FISH AND WILDLIFE SERVICE OFFICE | 9/20/2017
TE023496 | Recovery | ENDANGERED SPECIES RECOVERY PROGRAM | 9/25/2017
TE813545 | Recovery | ORTEGA, BROCK A | 10/3/2017
TE97717A | Recovery | BLUNDELL, MELISSA ANN-REYES | 10/3/2017
TE157199 | Recovery | STOUT, JULIE ANN | 10/3/2017
TE89994B | Recovery | SNIDER, DARIA M | 10/3/2017
TE95006A | Recovery | CHEN, STEVEN CHUNG-LI | 10/11/2017
TE049461 | Recovery | MARTY, JAYMEE T | 10/12/2017
TE799570 | Recovery | WITHAM, CAROL W | 10/13/2017
TE57065B | Recovery | MORRIS, STEVEN G | 10/18/2017
TE069534 | Recovery | NOVIK, VICTOR C | 10/18/2017
TE59573B | Recovery | KRAUSE, ANDREW P | 11/1/2017
TE64546A | Recovery | POWER ENGINEERS, INC | 11/15/2017
TE34126C | Recovery | CANNIZZO, FRANCESCA A | 11/15/2017
TE14587C | Recovery | MCGUIRK, ANDREW FARRAR | 11/15/2017
TE177979 | Recovery | RUDALEVIGE, ALLISON DU ROSE | 11/15/2017
TE14560C | Recovery | WOOLLEY, LANCE P | 11/15/2017
TE221411 | Recovery | THE CENTER FOR NATURAL LANDS MANAGEMENT | 11/17/2017
TE046262 | Recovery | CLAYPOOL, BLAKE A | 11/21/2017
TE02351A | Recovery | SEARL, TIMOTHY JAMES | 11/21/2017
TE843381 | Recovery | CALIFORNIA DEPARTMENT OF PARKS AND RECREATION | 11/28/2017
TE009018 | Recovery | RANCHO SANTA ANA BOTANIC GARDEN | 12/1/2017
TE221294 | Recovery | GALLOWAY, MICHAEL JAY | 1/18/2018
TE20160B | Recovery | VETTES, BRENNAN C | 1/18/2018
TE022183 | Recovery | LOS ANGELES WORLD AIRPORTS | 1/18/2018
TE022230 | Recovery | KIDD, JEFF W | 1/24/2018
TE181716 | Recovery | NATIONAL PARK SERVICE, CRATER LAKE NATIONAL PARK | 1/24/2018
TE043630 | Recovery | SAN FRANCISCO ESTUARY INSTITUTE | 2/7/2018
TE090849 | Recovery | WOLFF, DAVID K | 2/7/2018
TE180579 | Recovery | OBERHOFF, DWAYNE N | 2/7/2018
TE14737C | Recovery | HOWARD, JOHN EARL | 2/7/2018
TE128462 | Recovery | FEENSTRA, JONATHAN S | 2/12/2018
TE01768B | Recovery | KARPMAN, BRIAN E | 2/12/2018
TE006559 | Recovery | POWELL, DALE A | 2/12/2018
TE786497 | Recovery | PRINCIPE, PAUL A | 2/13/2018
TE776608 | Recovery | MONK & ASSOCIATES INCORPORATED | 2/13/2018
TE050122 | Recovery | CALIFORNIA DEPARTMENT OF FISH AND GAME | 2/13/2018
TE08276C | Recovery | BROWN, SHANNON DANIEL | 2/14/2018
TE08288C | Recovery | KINMONT, ROBIN LYNNE | 2/14/2018
TE110373 | Recovery | KLINE, ERIC F | 2/15/2018
TE780566 | Recovery | RAMIREZ, RUBEN S | 2/15/2018
TE90000A | Recovery | BROWN, RYAN M | 2/15/2018
TE205600 | Recovery | PETERSON, BONNIE ELIZABETH | 2/15/2018
TE30023C | Recovery | ZINN, JOSHUA ISAAC | 2/15/2018
TE799569 | Recovery | OWENS, RENEE Y | 2/20/2018
TE29992C | Recovery | VITALI, DOMINIC A | 2/20/2018
TE838743 | Recovery | FAULKNER, DAVID K | 2/20/2018
TE043418 | Recovery | KERN NATIONAL WILDLIFE REFUGE | 2/20/2018
TE20513C | Recovery | MCLEAN, KATHERINE MATILDA | 2/20/2018
TE074955 | Recovery | SCATOLINI, SUSAN R | 2/21/2018
TE24603A | Recovery | CARTER, KAREN J | 2/22/2018
TE181713 | Recovery | HARTLEY, CYNTHIA ANN | 2/22/2018
TE188803 | Recovery | USFWS—LODI FISH AND WILDLIFE OFFICE | 2/23/2018
TE27460A | Recovery | ZITT, BRIAN ALLEN | 2/26/2018
TE34132C | Recovery | USDA FOREST SERVICE—PACIFIC SOUTHWEST REGION | 2/26/2018
TE179036 | Recovery | WILKERSON, CULLEN A | 2/26/2018
TE085880 | Recovery | FRANCIS, RONALD A | 2/26/2018
TE839960 | Recovery | DICUS, JOHN W | 3/15/2018
TE782703 | Recovery | COUFFER, MICHAEL CRAIG | 3/15/2018
TE60149A | Recovery | CALIFORNIA DEPARTMENT OF FISH AND WILDLIFE | 3/15/2018
TE089980 | Recovery | HAGAR ENVIRONMENTAL SCIENCE | 3/15/2018
TE02869B | Recovery | DELANEY, KATHLEEN SEMPLE | 3/15/2018
TE29053C | Recovery | SCHADE, CHARLES BURROUGHS | 3/15/2018
TE92799B | Recovery | FAIRCHILD, KARL C | 3/19/2018
TE70880B | Recovery | HOBBS, MICHAEL T | 3/19/2018
TE26551C | Recovery | HIRKALA, MATTHEW JAMES | 3/19/2018
TE210235 | Recovery | MCDONALD, MATTHEW W | 3/22/2018
TE45250C | Recovery | BRUNGRABER, GRIFFIN R | 3/22/2018
TE049540 | Recovery | RIVERSIDE-CORONA RESOURCE CONSERVATION DISTRICT | 4/11/2018
TE097516 | Recovery | RYAN, THOMAS P | 4/12/2018
TE74377B | Recovery | MINDEMAN, SHANNON E | 4/20/2018
TE840619 | Recovery | PRIEST, JEFFREY D | 4/20/2018
TE19843C | Recovery | SEXTON, JENNIFER LYN | 4/20/2018
TE39186A | Recovery | ALVARADO, CARLOS | 4/20/2018
TE092469 | Recovery | EICH, INGRID I | 4/20/2018
TE36221C | Recovery | PETERS, JASON ROBERT | 4/20/2018
TE76005A | Recovery | SCHOENWETTER, TARA | 4/20/2018
TE039460 | Recovery | OLSON, THOMAS E | 4/20/2018
TE29622C | Recovery | COUNTY OF SAN MATEO, DEPARTMENT OF PUBLIC WORKS | 4/20/2018
TE221290 | Recovery | RIPMA, LEE | 4/20/2018
TE166490 | Recovery | RODRIGUEZ, HEATHER CELINA | 4/20/2018
TE211097 | Recovery | CADDY, TRACI A | 4/23/2018
TE157216 | Recovery | U.S.G.S.—WESTERN ECOLOGICAL RESEARCH CENTER | 4/23/2018
TE54614A | Recovery | CALIFORNIA DEPARTMENT OF FISH AND WILDLIFE | 4/23/2018
TE72713C | Recovery | HOLLINGSWORTH, BRADFORD D | 4/23/2018
TE58846C | Recovery | MOFFETT, NATHAN JAMES | 4/23/2018
TE019949 | Recovery | JOSHI, VIPUL RAMESH | 4/24/2018
TE59680C | Recovery | WANG, THEA | 4/24/2018
TE835365 | Recovery | CALIFORNIA DEPT OF WATER RESOURCES | 4/26/2018
TE60035C | Recovery | SACRAMENTO NATIONAL WILDLIFE REFUGE COMPLEX | 4/26/2018
TE48210A | Recovery | AREA WEST ENVIRONMENTAL, INC | 4/30/2018
TE35292C | Recovery | BASSON, GALLI | 4/30/2018
TE181714 | Recovery | JOHNSON, PIETER T. J | 5/1/2018
TE59924C | Recovery | LAND TRUST OF SANTA CRUZ COUNTY | 5/1/2018
TE101462 | Recovery | SARAFIAN, PETER G | 5/1/2018
TE54716A | Recovery | HARVEY, CHRISTINE L | 5/3/2018
TE777965 | Recovery | LSA ASSOCIATES, INC | 5/3/2018
TE15264B | Recovery | HOWARD, PHILLIP J | 5/15/2018
TE062907 | Recovery | FORDE, ANDREW MCGINN | 5/18/2018
TE60358C | Recovery | CALIFORNIA DEPARTMENT OF FISH AND WILDLIFE | 5/18/2018
TE787376 | Recovery | BLOOM BIOLOGICAL, INC | 5/21/2018
TE28101C | Recovery | KIERAN, SHANNON ROSE CHRISTIE | 5/21/2018
TE796284 | Recovery | ROGERS, DAVID CHRISTOPHER | 5/21/2018
TE75492C | Recovery | BENNETT, SUSAN RENEE | 5/22/2018
TE058073 | Recovery | CHRISTOPHER, SUSAN V | 5/22/2018
TE212445 | Recovery | SCHELL, ROBERT ANTHONY | 5/22/2018
TE87580B | Recovery | CITY OF COSTA MESA | 6/14/2018
TE814222 | Recovery | CALIFORNIA DEPARTMENT OF PARKS AND RECREATION | 6/18/2018
TE62868B | Recovery | THE KLAMATH TRIBES | 6/20/2018
TE233373 | Recovery | FLETT, MARY ANNE | 6/21/2018
TE34122C | Recovery | ROSE, ELI T | 6/21/2018
TE798003 | Recovery | STANTEC CONSULTING SERVICES | 6/22/2018
TE021929 | Recovery | SACRAMENTO SPLASH | 6/22/2018
TE32004C | Recovery | TUMA, MICHAEL W | 6/22/2018
TE161496 | Recovery | HALBERT, PORTIA | 6/25/2018
TE082233 | Recovery | ENGLAND, MARCUS C | 7/23/2018
TE003269 | Recovery | JAMES, ROBERT A | 7/23/2018
TE45251C | Recovery | MOFFITT, EMILY B | 7/23/2018
TE190302 | Recovery | SIEMENS, MITCH C | 7/23/2018
TE203074 | Recovery | SCHAAP, MATTHEW ALAN | 7/23/2018
TE083348 | Recovery | SAN BERNARDINO COUNTY, DEPT OF PUBLIC WORKS | 7/24/2018
TE053379 | Recovery | TISCHER, CHRISTINE LEILANI | 7/24/2018
TE082237 | Recovery | CALIFORNIA STATE PARKS SAN LUIS OBISPO COAST DISTRICT | 7/25/2018
TE29991C | Recovery | SCHWENNESEN, JOSEPH LYNN | 7/25/2018
TE811615 | Recovery | DAVERIN, CYNTHIA JONES | 7/26/2018
TE095896 | Recovery | RICHARDS, PHILLIP CHARLES | 7/27/2018
TE004234 | Recovery | CALIFORNIA DEPARTMENT OF PARKS AND RECREATION | 7/27/2018
TE72549C | Recovery | LEWIS, MARTY ANTHONY | 7/27/2018
TE036499 | Recovery | GOLDEN GATE NATIONAL RECREATION AREA | 7/27/2018
TE59234C | Recovery | ADVANCED SOLUTIONS FOR EARTHS FUTURE | 8/21/2018
TE02785B | Recovery | DAVIS, CHERYL LYNNE | 8/21/2018
TE02737B | Recovery | DEWAR, SUSAN BETH | 8/21/2018
TE022649 | Recovery | MESSIN, JOSEPH E | 8/21/2018
TE837574 | Recovery | EREMICO BIOLOGICAL SERVICES | 8/22/2018
TE74785A | Recovery | NERHUS, BARRY SCOTT | 8/22/2018
TE190303 | Recovery | SHAW, DANIEL W.H | 8/22/2018
TE787037 | Recovery | SIMOVICH, MARIE A | 8/23/2018
TE218901 | Recovery | HINDERLE, DANNA | 8/23/2018
TE83414C | Recovery | MISSION SUPPORT AND TEST SERVICES | 8/23/2018
TE04999D | Recovery | SMITH, JACQUELYN E | 8/29/2018
TE073205 | Recovery | SANDOVAL, CRISTINA P | 9/5/2018
TE80703A | Recovery | REIMERS, SETH B | 9/5/2018
TE185611 | Recovery | CURIODYSSEY CORPORATION | 9/5/2018
TE200339 | Recovery | FOSTER, SARAH M | 9/5/2018
TE815537 | Recovery | SWAIM, KAREN E | 9/5/2018
TE58866B | Recovery | LOS ANGELES ZOO | 9/11/2018
TE86811A | Recovery | SOUTHWEST RESOURCE MANAGEMENT ASSOCIATION | 9/20/2018
TE802089 | Recovery | TATARIAN, PATRICIA J | 10/9/2018
TE028223 | Recovery | STEAD, JONATHAN E | 10/29/2018
TE98574C | Recovery | RIVER DESIGN GROUP, INC | 11/28/2018
TE207873 | Recovery | THOMPSON, CAROL A | 11/29/2018
TE53787B | Recovery | FRANKLIN, HEATHER A | 11/29/2018
TE799564 | Recovery | SYCAMORE ENVIRONMENTAL CONSULTANTS, INC | 11/29/2018
TE80906C | Recovery | SMITH, KATHERINE ROSE | 11/29/2018
TE13691B | Recovery | ZACK, CHRISTINE L | 11/29/2018
TE789251 | Recovery | ARNOLD, RANDALL C | 11/29/2018
TE148556 | Recovery | VAN DOOREMOLEN, DEBORAH M | 12/3/2018
TE14231A | Recovery | BRUNGRABER, CAESARA W | 12/3/2018
TE85074C | Recovery | US GEOLOGICAL SURVEY, WERC | 12/3/2018
TE72044A | Recovery | DEMETROPOULOS, CARL L | 12/3/2018
TE166383 | Recovery | BUREAU OF LAND MANAGMENT, HOLLISTER FIELD OFFICE | 12/3/2018
TE800777 | Recovery | JEPSON PRAIRIE RESERVE DOCENT PROGRAM | 12/3/2018
TE233332 | Recovery | MAZON, MAYA ELLENDER | 12/3/2018
TE053598 | Recovery | KIMBALL, NICOLE M | 12/4/2018
TE026089 | Recovery | HUMBOLDT REDWOOD COMPANY, LLC | 12/4/2018
TE75988A | Recovery | SAN DIEGO NATURAL HISTORY MUSEUM | 12/4/2018
TE185595 | Recovery | BAYNE, KELLY E | 12/4/2018
TE091857 | Recovery | DENISE DUFFY & ASSOCIATES, INC | 12/4/2018
TE025732 | Recovery | SWEET, SAMUEL SPENDER | 12/4/2018
TE797315 | Recovery | MORRISON, MICHAEL L | 12/4/2018
TE74980C | Recovery | PLUMAS AUDUBON SOCIETY | 12/4/2018
TE022225 | Recovery | STITT, ERIC W | 12/4/2018
TE804203 | Recovery | MYERS, STEPHEN J | 12/6/2018
TE192702 | Recovery | CALIFORNIA STATE UNIVERSITY SACRAMENTO | 12/6/2018
TE115370 | Recovery | DAYTON, GAGE H | 12/6/2018
TE59233C | Recovery | UC MERCED VERNAL POOLS AND GRASSLAND RESERVE | 12/6/2018
TE009015 | Recovery | BERKLEY, JASON L | 12/11/2018
TE59592B | Recovery | JOHNSON, ANGELA M | 12/11/2018
TE799568 | Recovery | KAMADA, DANA K | 12/11/2018
TE93070A | Recovery | MCCANN, KYLE R | 12/11/2018
TE030659 | Recovery | US GEOLOGICAL SURVEY | 12/19/2018
TE64144A | Recovery | MASTRELLI, EMILY M | 12/20/2018
TE095858 | Recovery | PREITE, ARIANNE B | 12/20/2018
TE84905C | Recovery | LEWIS, DEBORAH L | 12/20/2018
TE84904C | Recovery | SKILLEN, ROBERT R | 12/20/2018
TE094845 | Recovery | BETTELHEIM, MATTHEW P | 12/20/2018
TE091012 | Recovery | GOBLE, MOLLY E | 12/20/2018

Availability of Documents

You may request copies of the Federal Register documents publishing the receipt of applications for these permits from the office that issued the permit (see contact information above). Documents and other information submitted with these applications are available for review subject to the requirements of the Privacy Act (5 U.S.C. 552a) and Freedom of Information Act (5 U.S.C. 552), by any party who submits a written request for a copy of such documents.

Authority

We provide this notice under the authority of section 10 of the ESA (16 U.S.C. 1531 et seq.).

Dated: May 13, 2019.
Gary Frazer,
Assistant Director for Ecological Services.

[FR Doc. 2019-11806 Filed 6-5-19; 8:45 am]

BILLING CODE 4333-15-P